DEPARTMENT OF HEALTH AND HUMAN SERVICES

National Institutes of Health

Request for Information on the Office of Disease Prevention Draft Strategic Plan for Fiscal Years 2014-2018

SUMMARY: The purpose of this Request for Information (RFI) is to seek broad public input on the draft Strategic Plan for Fiscal Years (FY) 2014-2018 for the Office of Disease Prevention (ODP), National Institutes of Health (NIH).

DATES: To ensure consideration, responses must be received by November 22, 2013.

ADDRESSES: Comments must be submitted electronically using the web-based form available at http://prevention.nih.gov/aboutus/strategic_plan/rfi.aspx.

FOR FURTHER INFORMATION CONTACT: Please direct all inquiries to Wilma Peterman Cross, M.S.; Senior Public Health Advisor, Office of Disease Prevention,

National Institutes of Health; Phone: 301-496-1508; email: prevention@mail.nih.gov.

SUPPLEMENTARY INFORMATION: The mission of the ODP is to improve the public health by increasing the scope, quality, dissemination, and impact of prevention research supported by the NIH. The ODP fulfills this mission by providing leadership for the development, coordination, and implementation of prevention research in collaboration with NIH Institutes and Centers and other partners. The Office is responsible for advising the Director of the NIH regarding prevention research issues, actions, and activities. The Office also provides overall guidance to the NIH Institutes and Centers on biomedical programs that seek to improve the nation's health through research, training, knowledge translation, and public education as they relate to prevention.

Prevention research at the NIH encompasses both primary and secondary prevention. It includes research designed to promote health; to prevent onset of disease, disorders, conditions, or injuries; and to detect and prevent the progression of asymptomatic disease. Prevention research targets biology, individual behavior, factors in the social and physical environments, and health services and informs and evaluates health-related policies and regulations. Prevention research includes studies for:

• Identification and assessment of risk and protective factors;

• Screening and identification of individuals and groups at risk;

• Development and evaluation of interventions to reduce risk;

• Translation, implementation, and dissemination of effective preventive interventions into practice; and

• Development of methods to support prevention research.

Although established in 1986 in response to a directive in the Health Research Extension Act of 1985, the Office has never had a formal strategic plan. The ODP implemented an extensive and inclusive process to develop a strategic plan that would outline the priorities for the Office over the next five years and highlight the ODP's role in advancing prevention research at the NIH. Feedback was solicited from multiple stakeholder communities including academia, industry, health care professionals, patient advocates and advocacy organizations, scientific and professional organizations, federal agencies, and other interested members of the public. Based on this feedback, six strategic priorities were selected as the framework for the plan. The priorities represent the breadth of the ODP portfolio and allow for emerging areas of opportunity to be incorporated into Office activities.

Information Requested

This RFI is intended to gather broad public input on the ODP Draft Strategic Plan for FY 2014-2018. While feedback is welcome on any part of the draft document, comments on the six strategic priorities and related objectives are encouraged. The ODP invites input from prevention researchers in academia and industry, health care professionals, patient advocates and advocacy organizations, scientific or professional organizations, federal agencies, and other interested members of the public. Organizations are strongly encouraged to submit a single response that reflects the views of their organization and membership as a whole.

How To Submit a Response

To ensure consideration, responses must be received by November 22, 2013, and should be submitted electronically using the web-based form available at http://prevention.nih.gov/aboutus/strategic_plan/rfi.aspx. The web form will provide confirmation of response submission, but respondents will not receive individualized feedback. All respondents are encouraged to sign up for the ODP email list at http://prevention.nih.gov/subscribe to receive information related to Office activities, including updates on the development and release of the final strategic plan.

Responses to this RFI are voluntary and may be submitted anonymously. Please do not include any personally identifiable or other information that you do not wish to make public. Proprietary, classified, confidential, or sensitive information should not be included in responses. Comments submitted will be compiled for discussion and incorporated into the ODP strategic plan as appropriate. Any personal identifiers (personal names, email addresses, etc.) will be removed when responses are compiled.

This RFI is for informational and planning purposes only and is not a solicitation for applications or an obligation on the part of the U.S. government to provide support for any ideas identified in response to it. Please note that the U.S. government will not pay for the preparation of any information submitted or for use of that information.

Dated: October 31, 2013.
Francis S. Collins,
Director,
National Institutes of Health.

[FR Doc. 2013-26649 Filed 11-6-13; 8:45 am]

BILLING CODE 4140-01-P